DEPARTMENT OF TRANSPORTATION

Federal Aviation Administration

14 CFR Part 39

[Docket No. FAA-2018-0842; Product Identifier 2018-CE-025-AD]

RIN 2120-AA64

Airworthiness Directives; Pacific Aerospace Limited Airplanes

AGENCY: Federal Aviation Administration (FAA), Department of Transportation (DOT).

ACTION: Notice of proposed rulemaking (NPRM).

SUMMARY: We propose to supersede Airworthiness Directive (AD) AD 2018-04-09 for Pacific Aerospace Limited Model 750XL airplanes. This proposed AD results from mandatory continuing airworthiness information (MCAI) originated by an aviation authority of another country to identify and correct an unsafe condition on an aviation product. The MCAI describes the unsafe condition as incorrectly marked and annunciated low oil-pressure indication warnings. We are issuing this proposed AD to require actions to address the unsafe condition on these products.

DATES: We must receive comments on this proposed AD by December 7, 2018.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this proposed AD, contact Pacific Aerospace Limited, Airport Road, Hamilton, Private Bag 3027, Hamilton 3240, New Zealand; telephone: +64 7 843 6144; facsimile: +64 7 843 6134; email: pacific@aerospace.co.nz; internet: www.aerospace.co.nz. You may review copies of the referenced service information at the FAA, Policy and Innovation Division, 901 Locust, Kansas City, Missouri 64106. For information on the availability of this material at the FAA, call (816) 329-4148.

Examining the AD Docket

You may examine the AD docket on the internet at http://www.regulations.gov by searching for and locating Docket No. FAA-2018-0842; or in person at Docket Operations between 9 a.m. and 5 p.m., Monday through Friday, except Federal holidays. The AD docket contains this proposed AD, the regulatory evaluation, any comments received, and other information. The street address for Docket Operations (telephone (800) 647-5527) is in the ADDRESSES section. Comments will be available in the AD docket shortly after receipt.

FOR FURTHER INFORMATION CONTACT: Mike Kiesov, Aerospace Engineer, FAA, Small Airplane Standards Branch, 901 Locust, Room 301, Kansas City, Missouri 64106; telephone: (816) 329-4144; fax: (816) 329-4090; email: mike.kiesov@faa.gov.

SUPPLEMENTARY INFORMATION:

Comments Invited

We invite you to send any written relevant data, views, or arguments about this proposed AD. Send your comments to an address listed under the ADDRESSES section. Include “Docket No. FAA-2018-0842; Product Identifier 2018-CE-025-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

We issued AD 2018-04-09, Amendment 39-19205 (83 FR 9793, March 8, 2018) (“AD 2018-04-09”) to address an unsafe condition on Pacific Aerospace Limited Model 750XL airplanes. AD 2018-04-09 was based on mandatory continuing airworthiness information (MCAI) originated by the Civil Aviation Authority (CAA), which is the aviation authority for New Zealand.

Since we issued AD 2018-04-09, Pacific Aerospace Limited has revised the airplane flight manual (AFM) (pilot's operating handbook). The CAA revised its previous MCAI and issued CAA AD DCA/750XL/19A, dated April 26, 2018 (referred to after this as “the MCAI”), to mandate the AFM revisions and also to include an option to modify the oil pressure/temperature indicator. The MCAI states:

DCA/750XL/19A revised to introduce revision 30 March 2018 for PAL 750XL POH AIR3237, and clarify the AD requirements.

We are proposing this AD to retain the replacement of the pressure switch for the low oil pressure light and the oil pressure/temperature indicator. We are also proposing to require the revised AFM provisions and to clarify that you may modify the oil pressure/temperature indicator instead of replacing the indicator.

You may examine the MCAI on the internet at http://www.regulations.gov by searching for and locating Docket No. FAA-2018-0842.

Related Service Information Under 1 CFR Part 51

We reviewed Pacific Aerospace Temporary Revision Instruction Letter, dated October 2017, which includes Pacific Aerospace Temporary Revisions XL/POH/00/001, XL/POH/02/001, and XL/POH/03/001; and Pacific Aerospace Revision Instruction Letter, dated March 2018, which includes Pacific Aerospace POH AIR 3237 Revision, dated March 30, 2018, for 750XL airplanes. For the applicable configurations, the service information includes revisions to the AFM that corrects the incorrect instrument markings.

We also reviewed Pacific Aerospace Mandatory Service Bulletin PACSB/XL/088, dated August 11, 2017, which was previously approved for incorporation by reference on April 12, 2018 (83 FR 9793, March 8, 2018), and describes procedures for replacement or modification of the low oil-pressure light, pressure switch, and indicator. This service information is reasonably available because the interested parties have access to it through their normal course of business or by the means identified in the ADDRESSES section of the AD.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 22 products of U.S. registry. We also estimate that it would take about 2 work-hours per product to comply with the basic requirements of this proposed AD. The average labor rate is $85 per work-hour. Required parts would cost about $500 per product.

Based on these figures, we estimate the cost of the proposed AD on U.S. operators to be $14,740, or $670 per product.

Since the proposed AD requires the same actions as AD 2018-04-09, the costs of compliance remains the same and does not impose any additional costs on U.S. operators.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-19205 (83 FR 9793, March 8, 2018), and adding the following new airworthiness directive (AD):

Pacific Aerospace Limited: Docket No. FAA-2018-0842; Product Identifier 2018-CE-025-AD.

(a) Comments Due Date

We must receive comments by December 7, 2018.

(b) Affected ADs

This AD replaces AD 2018-04-09, Amendment 39-19205 (83 FR 9793, March 8, 2018) (“AD 2018-04-09”).

(c) Applicability

This AD applies to Pacific Aerospace Limited Model 750XL airplanes, all serial numbers up to 217, certificated in any category.

(d) Subject

Air Transport Association of America (ATA) Code 79: Engine Oil.

(e) Reason

This AD was prompted by mandatory continuing airworthiness information (MCAI) originated by an aviation authority of another country to identify and correct an unsafe condition on an aviation product. The MCAI describes the unsafe condition as incorrectly marked and annunciated low oil-pressure indication warnings. We are issuing this AD to prevent engine oil pressure from dropping below safe limits, which could cause possible engine damage or failure.

(f) Actions and Compliance

Unless already done, do the following actions in paragraphs (f)(1) through (4) of this AD, as applicable:

(1) For airplanes with Pacific Aerospace Pilot's Operating Handbook and Civil Aviation Authority of New Zealand Approved Flight Manual AIR 2825 (AIR 2825): Within the next 30 days after the effective date of this AD, insert Pacific Aerospace Temporary Revisions XL/POH/00/001, XL/POH/02/001 and XL/POH/03/001 into AIR 2825 following the Accomplishment Instructions in Pacific Aerospace Temporary Revision Instruction Letter, dated October 2017.

(2) For airplanes with Pacific Aerospace Pilot's Operating Handbook and Civil Aviation Authority of New Zealand Approved Flight Manual AIR 3237, Issue 2 (AIR 3237): Within the next 30 days after the effective date of this AD, remove the affected pages and insert the revised pages, into AIR 3237 following the Accomplishment Instructions in Pacific Aerospace Revision Instruction Letter, dated March 30, 2018.

(3) For Pacific Aerospace 750XL airplanes up to serial number 217: Within the next 100 hours time-in-service (TIS) after April 12, 2018 (the effective date of AD 2018-04-09) or within the next 12 months after April 12, 2018 (the effective date of AD 2018-04-09), whichever occurs first, replace or modify the pressure switch for the low oil pressure light by following Part A—Accomplishment Instructions in Pacific Aerospace Mandatory Service Bulletin PACSB/XL/088, dated August 11, 2017 (PACSB/XL/088).

(4) For Pacific Aerospace 750XL airplanes up to serial number 217 with a part number (P/N) INS 60-8 oil pressure/temperature indicator installed: Within the next 100 hours TIS after April 12, 2018 (the effective date of AD 2018-04-09) or within the next 12 months after April 12, 2018 (the effective date of AD 2018-04-09), whichever occurs first, replace the oil pressure/temperature indicator with P/N INS 60-15 by following Part B—Accomplishment Instructions in PACSB/XL/088, dated August 11, 2017, except you are not required to return parts to the manufacturer.

(g) Other FAA AD Provisions

The following provisions also apply to this AD:

(1) Alternative Methods of Compliance (AMOCs): The Manager, Standards Office, FAA, has the authority to approve AMOCs for this AD, if requested using the procedures found in 14 CFR 39.19. Send information to ATTN: Mike Kiesov, Aerospace Engineer, FAA, Small Airplane Standards Branch, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must instead be accomplished using a method approved by the Manager, Small Airplane Standards Branch, FAA; or the Civil Aviation Authority of New Zealand (CAA).

(i) Related Information

Refer to CAA MCAI AD No. DCA/750XL/19A, dated April 26, 2018, for related information. You may examine the MCAI on the internet at http://www.regulations.gov by searching for and locating Docket No. FAA-2018-0842. Pacific Aerospace Limited, Airport Road, Hamilton, Private Bag 3027, Hamilton 3240, New Zealand; telephone: +64 7 843 6144; facsimile: +64 7 843 6134; email: pacific@aerospace.co.nz; internet: www.aerospace.co.nz. You may review copies of the referenced service information at the FAA, Policy and Innovation Division, 901 Locust, Kansas City, Missouri 64106. For information on the availability of this material at the FAA, call (816) 329-4148.

Issued in Kansas City, Missouri, on October 5, 2018.
Melvin J. Johnson,
Aircraft Certification Service, Deputy Director, Policy and Innovation Division, AIR-601.

[FR Doc. 2018-22467 Filed 10-22-18; 8:45 am]

BILLING CODE 4910-13-P